DEPARTMENT OF TRANSPORTATION

Federal Transit Administration

Supplemental Environmental Impact Statement on the Central Link Light Rail Transit Project

AGENCY: Federal Transit Administration, DOT.

ACTION: Notice of intent to prepare a supplemental environmental impact statement (EIS).

SUMMARY: The Federal Transit Administration (FTA) and the Central Puget Sound Regional Transit Authority (Sound Transit) intend to prepare a supplemental EIS in accordance with the National Environmental Policy Act (NEPA) on the Central Link Light Rail Transit project north corridor from Convention Place to Northgate. This is a supplemental EIS to the Central Link Light Rail Transit Project Final EIS (November 1999). The supplemental EIS will evaluate a no build alternative and light rail station and route options in three segments: Capitol Hill/South Lake Union (Convention Place Station to SR-520), Ship Canal crossing/University District (SR-520 to NE 45th Street), and the Northgate segment (NE 45th to Northgate). Scoping will be accomplished through meetings and correspondence with interested persons, organizations, the general public, federal, state and local agencies and tribes.

DATES: Comment Due Date: Written comments on the scope of the alternatives and impacts to be considered should be sent to Sound Transit by November 9, 2001. See ADDRESSES below. Scoping meetings: Public scoping meetings will be held on Wednesday, October 24, 2001 from 5 p.m. to 8 p.m. at Union Station and on Thursday, October 25, 2001 from 5 p.m. to 8 p.m. at Calvary Temple. An agency scoping meeting will be held Wednesday, October 24, 2001 from 1 p.m. to 3 p.m. at Union Station. See ADDRESSES below.

ADDRESSES: Written comments on the project scope of alternatives and impacts to be considered should be sent to James Irish, Sound Transit, 401 South Jackson St., Seattle, WA 98104-2826 by November 9, 2001. Scoping meetings will be held on the following days and locations.

Public Scoping Meetings

Wednesday, October 24, 2001

5 pm-8 pm

Location: Union Station—Great Hall, 401 S. Jackson Street, Seattle, Washington, and

Thursday, October 25, 2001

5 pm-8 pm

Location: Calary Temple—Children's Auditorium, 6810 8th Avenue NE., Seattle, Washington

Agency Scoping Meeting

Wednesday, October 24, 2001

1 pm-3 pm

Location: Union Station—Sound Transit Board Room, 401 S. Jackson Street, Seattle, Washington

FOR FURTHER INFORMATION CONTACT: John Witmer, Federal Transit Administration, 915 2nd Avenue Suite 3142, Seattle, WA 98174, Telephone: 206.220.7964 or James Irish, Sound Transit, 401 South Jackson St., Seattle, WA 98104-2826, Telephone: 206.398.5140.

SUPPLEMENTARY INFORMATION:

I. Scoping

The FTA and Sound Transit invite comments from interested individuals, organizations, and federal, state, regional and local agencies for a period of 30 days after publication of this notice (See DATES and ADDRESSES above). Comments should focus on defining the alternatives within the corridor to be evaluated in the EIS and identifying any significant social, economic, or environmental issues related to the alternatives. An Environmental Scoping Information Report describing the project, the proposed alternatives, the impact areas to be evaluated, the public involvement program and the preliminary project schedule has been prepared. You may request a copy of the report by contacting Anna Mallon, Sound Transit, 401 South Jackson St., Seattle, WA 98104-2826, Telephone: 206.398.5144. In addition to written comments, which may be made at the meetings or as decribed above, a stenographer will be available at the public meetings to record oral comments. All of the locations for the scoping meetings are accessible to people with disabilities. Non-English translation services and accessible formats are available by request at 800.201.4900 (voice) or 206.398.5410 (TTY).

II. Study Area and Alternatives

FTA and the Central Puget Sound Regional Transit Authority (Sound Transit) will prepare a supplemental EIS on route alternatives from Convention Place to Northgate. The study are will be divided into three segments: Capitol Hill/South Lake Union (Convention Place Station to SR-520), Ship Canal Crossing/University District (SR-520 to NE 45th Street), and the Northgate segment (NE 45th to Northgate). The supplemental EIS will address the no build alternative and the following light rail station and route options:

Capitol Hill/South Lake Union (Convention Place Station to SR-520)

These include the adopted Capitol Hill route including Capitol Hill station alternatives, an Eastlake Avenue Route, a Bouren Avenue route, and a route bypassing First Hill with stations between Capitol Hill and First Hill and on 15th Avenue.

Ship Canal Crossing/University District (SR-520 to NE 45th Street)

These include the Postage Bay tunnel adopted route, a Montlake tunnel route via the University of Washington's Rainier Vista, a tunnel route in the vicinity of the University bridge, and a high-and/or mid-level bridge.

Northgate Segment (NE 45th to Northgate)

Includes the two 8th Avenue route options, and the 12th Avenue route. A Notice of Intent was issued on April 16, 2001 to prepare a supplemental EIS for the Northgate segment (NE 45th to Northgate) to the project. That supplemental EIS has been terminated. Supplemental environmental review for the Northgate segment of the project will be incorporated in this new supplemental EIS.

III. Probable Effects

This is a supplemental EIS to the Central Link Rail Transit Project Final EIS (November 1999). The FTA and Sound Transit will evaluate all significant environmental, social, and economic impacts of the alternatives analyzed in the supplemental EIS. Impacts will be evaluated for all issues evaluated in the original EIS.

Issued on: September 27, 2001.
Helen Knoll,
Regional Administrator, Region X.

[FR Doc. 01-26559 Filed 10-19-01; 8:45 am]

BILLING CODE 4910-57-M